DEPARTMENT OF HEALTH AND HUMAN SERVICES

Centers for Medicare & Medicaid Services

[CMS-1282-CN]

42 CFR Parts 411 and 424

RIN 0938-AN65

Medicare Program; Prospective Payment System and Consolidated Billing for Skilled Nursing Facilities; Correction

AGENCY: Centers for Medicare & Medicaid Services (CMS), HHS.

ACTION: Final rule; correction notice.

SUMMARY: This document corrects typographical and technical errors that appeared in the August 4, 2005 Federal Register, entitled “Medicare Program; Prospective Payment System and Consolidated Billing for Skilled Nursing Facilities for FY 2006.”

EFFECTIVE DATE: October 1, 2005.

FOR FURTHER INFORMATION CONTACT: Jeanette Kranacs, (410) 786-9385. Bill Ullman, (410) 786-5667. Sheila Lambowitz, (410) 786-7605.

SUPPLEMENTARY INFORMATION:

I. Background

In FR Doc. 05-15221, (70 FR 45026), the final rule entitled “Medicare Program; Prospective Payment System and Consolidated Billing for Skilled Nursing Facilities for FY 2006” (hereinafter referred to as the FY 2006 final rule), there were a number of typographical and technical errors that are identified and corrected in section III. “Correction of Errors” below. The provisions of this correction notice are effective as if they had been included in the FY 2006 final rule. Accordingly, the corrections are effective on October 1, 2005.

II. Summary of the Corrections to the FY 2006 Final Rule

A. Corrections to the Preamble of the FY 2006 Final Rule

On pages 45046 and 45047, in the preamble discussion of the SNF market basket index, we inadvertently included incorrect values in the column labeled “Relative importance, labor-related, FY 2005 (97 index).” Therefore, we are revising the second column in Table 11 (“Labor-Related Relative Importance, FY 2005 and FY 2006”) to include the correct values for the labor share estimate for FY 2005 based on the 2nd quarter 2004 projection. (See item 1 of section III.A of this notice.)

B. Corrections to the Regulations Text of the FY 2006 Final Rule

On page 45055, we made a technical error in the regulations text of title 42, part 411. In this paragraph, we inadvertently excluded the updated statutory authority citation for this part. As revised by FR Doc. 05-1321 entitled “Medicare Program; Medicare Prescription Drug Benefit” (70 FR 4525, January 28, 2005), in this notice we are correcting the regulations text to include Secs. 1102, 1860D-1 through D-42, and 1871 of the Social Security Act (42 U.S.C. 1302, 1395w-101 through 1395w-152, and 1395hh). Accordingly, we are now republishing the corrected statutory authority citation for part 411, as revised by FR Doc. 05-1321. (See item 1 of section III. B. of this notice.)

Also on page 45055, in our revisions to two different sections of the regulations text in part 424 of the FY 2006 final rule, we inadvertently omitted a subpart heading. Specifically, revised § 424.3 and § 424.20 were both displayed as being included within subpart B of part 424 (“Certification and Plan of Treatment Requirements”). In fact, only § 424.20 is included within that subpart, while § 424.3 is included within subpart A (“General Provisions”). (See items 2 and 3 of section III. B. of this notice.)

C. Corrections of Errors to the Addendum of the FY 2006 Final Rule

Wage index data for two providers were erroneously omitted from the wage index calculation. This affected the wage index determination for the Houston-Sugar Land-Baytown, TX CBSA and the Nashville-Davidson-Murfreesboro, TN CBSA. Accordingly, we are revising Table 8 and Table A to reflect the correct information. In addition, both Table 8 and Table A contained a number of technical and typographical errors. Therefore, we are including the corrected data in Table 8 and Table A. (See items 1 and 2 of section III.C. of this notice.)

III. Correction of Errors

In FR Doc. 05-15221 of August 4, 2005 (70 FR 45026), we are making the following corrections:

A. Corrections to Errors in the Preamble

1. On pages 45046 and 45047, in Table 11—Labor-Related Relative Importance, FY 2005 is corrected to read as follows:

Table 11.—Labor-Related Relative Importance, FY2005 and FY2006
| Relative importance,* labor-related, FY 2005 (97 index) | Relative importance,** labor-related, FY 2006 (97 index)
Wages and salaries | 54.720 | 54.391
Employee benefits | 11.595 | 11.648
Nonmedical professional fees | 2.688 | 2.739
Labor-intensive services | 4.125 | 4.128
Capital-related | 3.094 | 3.016
Total | 76.222 | 75.922
* Source: Global Insights, Inc., formerly DRI-WEFA, 2nd Quarter, 2004.
** Source: Global Insights, Inc., formerly DRI-WEFA, 2nd Quarter, 2005.

B. Corrections of Errors in the Regulations Text

PART 411—[CORRECTED]

1. On page 45055, second column, lines 1 through 3, in part 411 (Exclusions From Medicare and Limitations On Medicare Payment), the authority citation is corrected to read as follows:

Authority: Secs. 1102, 1860D-1 through 1860D-42, and 1871 of the Social Security Act (42 U.S.C. 1302, 1395w-101 through 1395w-152, and 1395hh).

PART 424—[CORRECTED]

2. On page 45055, second column, above § 424.3 Definitions, remove “Subpart B—Certification and Plan of Treatment Requirements” and add in its place, “Subpart A—General Provisions.”

3. On page 45055, second column, above amendatory instruction 3., add the subpart heading to read as follows: “Subpart B Certification and Plan of Treatment Requirements.”

C. Corrections to the Addendum

1. On pages 45065, 45069, and 45070 in Table 8.—(“FY 2006 Wage Index For Urban Areas Based On CBSA Labor Market Areas”) the entries for the Urban area and Wage index are corrected to read as follows:

CBSA code | Urban area (constituent counties) | Wage index
26420 | Houston-Baytown-Sugar Land, TX | 0.9996
31900 | Mansfield, OH | 0.9891
34980 | Nashville-Davidson Murfreesboro, TN | 0.9790

2. On pages 45080 through 45121, the following entries identified in Table A.—(“FY 2006 SNF PPS Transition Wage Index”) are corrected to read as follows:

SSA State/county code | County name | MSA No. | MSA Urban/rural | 2006 MSA-based WI | 2006 CBSA-based WI | CBSA No. | CBSA Urban/rural | Transition wage index *
01330 | Geneva County, Alabama | 01 | Rural | 0.7432 | 0.7721 | 20020 | Urban | 0.7577
04280 | Hempstead County, Arkansas | 04 | Rural | 0.7744 | 0.7466 | 99904 | Rural | 0.7605
11451 | Fayette County, Georgia | 0520 | Urban | 0.9793 | 0.9793 | 12060 | Urban | 0.9793
11840 | Richmond County, Georgia | 0600 | Urban | 0.9808 | 0.9748 | 12260 | Urban | 0.9778
16350 | Fremont County, Iowa | 16 | Rural | 0.8594 | 0.8509 | 99916 | Rural | 0.8552
27130 | Fergus County, Montana | 27 | Rural | 0.8762 | 0.8762 | 99927 | Rural | 0.8762
36710 | Richland County, Ohio | 4800 | Urban | 0.9891 | 0.9891 | 31900 | Urban | 0.9891
44070 | Cannon County, Tennessee | 44 | Rural | 0.7935 | 0.9790 | 34980 | Urban | 0.8863
44100 | Cheatham County, Tennessee | 5360 | Urban | 0.9808 | 0.9790 | 34980 | Urban | 0.9799
44180 | Davidson County, Tennessee | 5360 | Urban | 0.9808 | 0.9790 | 34980 | Urban | 0.9799
44210 | Dickson County, Tennessee | 5360 | Urban | 0.9808 | 0.9790 | 34980 | Urban | 0.9799
44400 | Hickman County, Tennessee | 44 | Rural | 0.7935 | 0.9790 | 34980 | Urban | 0.8863
44550 | Macon County, Tennessee | 44 | Rural | 0.7935 | 0.9790 | 34980 | Urban | 0.8863
44730 | Robertson County, Tennessee | 5360 | Urban | 0.9808 | 0.9790 | 34980 | Urban | 0.9799
44740 | Rutherford County, Tennessee | 5360 | Urban | 0.9808 | 0.9790 | 34980 | Urban | 0.9799
44790 | Smith County, Tennessee | 44 | Rural | 0.7935 | 0.9790 | 34980 | Urban | 0.8863
44820 | Sumner County, Tennessee | 5360 | Urban | 0.9808 | 0.9790 | 34980 | Urban | 0.9799
44840 | Trousdale County, Tennessee | 44 | Rural | 0.7935 | 0.9790 | 34980 | Urban | 0.8863
44930 | Williamson County, Tennessee | 5360 | Urban | 0.9808 | 0.9790 | 34980 | Urban | 0.9799
44940 | Wilson County, Tennessee | 5360 | Urban | 0.9808 | 0.9790 | 34980 | Urban | 0.9799
45070 | Austin County, Texas | 45 | Rural | 0.7931 | 0.9996 | 26420 | Urban | 0.8964
45180 | Brazoria County, Texas | 1145 | Urban | 0.8563 | 0.9996 | 26420 | Urban | 0.9280
45280 | Chambers County, Texas | 3360 | Urban | 1.0091 | 0.9996 | 26420 | Urban | 1.0044
45341 | Coryell County, Texas | 3810 | Urban | 0.8526 | 0.8526 | 28660 | Urban | 0.8526
45530 | Fort Bend County, Texas | 3360 | Urban | 1.0091 | 0.9996 | 26420 | Urban | 1.0044
45550 | Galveston County, Texas | 2920 | Urban | 0.9635 | 0.9996 | 26420 | Urban | 0.9816
45610 | Harris County, Texas | 3360 | Urban | 1.0091 | 0.9996 | 26420 | Urban | 1.0044
45757 | Liberty County, Texas | 3360 | Urban | 1.0091 | 0.9996 | 26420 | Urban | 1.0044
45801 | Montgomery County, Texas | 3360 | Urban | 1.0091 | 0.9996 | 26420 | Urban | 1.0044
45884 | San Jacinto County, Texas | 45 | Rural | 0.7931 | 0.9996 | 26420 | Urban | 0.8964
45950 | Waller County, Texas | 3360 | Urban | 1.0091 | 0.9996 | 26420 | Urban | 1.0044

IV. Waiver of Proposed Rulemaking and Delay in Effective Date

We ordinarily publish a notice of proposed rulemaking in the Federal Register to provide a period for public comment before the provisions of a notice such as this take effect in accordance with section 553(b) of the Administrative Procedure Act (APA) (5 U.S.C. 553(b)). We also ordinarily provide a 30-day delay in the effective date of the provisions of a notice in accordance with section 553(d) of the APA (5 U.S.C. 553(d)). However, we can waive both the notice and comment procedure and the 30-day delay in effective date if the Secretary finds, for good cause, that a notice and comment process is impracticable, unnecessary or contrary to the public interest, and incorporates a statement of the finding and the reasons therefore in the notice.

We find it unnecessary to undertake notice and comment rulemaking because this notice merely provides technical and typographical corrections to the regulations. We are not making substantive changes to our payment methodologies or policies, but rather, are simply implementing correctly the payment methodologies and policies that we previously proposed, received comments on, and subsequently finalized. The public has already had the opportunity to comment on the payment methodology and policies being used to calculate wage indexes. In addition, this correction notice is intended to ensure that the FY 2006 SNF PPS final rule accurately reflects the payment methodologies and policies adopted in the final rule. Therefore, we believe that undertaking further notice and comment procedures to incorporate these corrections into the final rule is unnecessary and contrary to the public interest.

Further, we believe a delayed effective date is unnecessary because this correction notice merely corrects inadvertent technical and typographical errors. The changes noted above do not make any substantive changes to the SNF PPS payment methodologies or policies. Moreover, we regard imposing a delay in the effective date as being contrary to the public interest. We believe that it is in the public interest for providers to receive appropriate SNF PPS payments in as timely a manner as possible and to ensure that the FY 2006 SNF PPS final rule accurately reflects our payment methodologies, payment rates, and policies. Therefore, we find good cause to waive notice and comment procedures, as well as the 30-day delay in effective date.

(Catalog of Federal Domestic Assistance Program No. 93.773, Medicare—Hospital Insurance; and Program No. 93.774, Medicare—Supplementary Medical Insurance Program).
Dated: September 28, 2005.
Ann C. Agnew,
Executive Secretary to the Department.

[FR Doc. 05-19762 Filed 9-29-05; 8:45 am]

BILLING CODE 4120-01-P